GENERAL SERVICES ADMINISTRATION

[Notice-PBS-2019-08; Docket No. 2019-0002; Sequence No. 20]

Notice of Intent To Prepare an Environmental Assessment for the Appraisers Building and U.S. Customs House, San Francisco, CA

AGENCY: Public Buildings Service (PBS), General Services Administration (GSA).

ACTION: Notice.

SUMMARY: Pursuant to the requirements of the National Environmental Policy Act of 1969 (NEPA), the Council on Environmental Quality Regulations, and the GSA PBS NEPA Desk Guide, GSA is issuing this notice to advise the public that an Environmental Assessment (EA) will be prepared for the Appraisers Building and U.S. Customs House Modernization Project, San Francisco, CA (Project).

DATES: Agencies and the public are encouraged to provide written comments regarding the scope of the EA. Comments must be received by August 26, 2019.

ADDRESSES: Please submit written comments by either of the following methods:

• Email: osmahn.kadri@gsa.gov.

• Postal Mail/Commercial Delivery: ATTN: Mr. Osmahn Kadri, 50 United Nations Plaza, Room 3345, Mailbox 9, San Francisco, CA 94102.

FOR FURTHER INFORMATION CONTACT: Mr. Osmahn A. Kadri, Regional Environmental Quality Advisor/NEPA Project Manager, General Services Administration, Pacific Rim Region, at 415-522-3617 or email osmahn.kadri@gsa.gov.

SUPPLEMENTARY INFORMATION:

Background

GSA intends to prepare an EA to analyze the potential impacts resulting from proposed renovations associated with the Appraisers Building and U.S. Customs House Renovations Project.

The Project is located at 630 Sansome Street (Appraisers Building) and 555 Battery Street (U.S. Customs House), San Francisco, California. The Project is proposed in order to bring these buildings up to current building code, safety standards and serviceable condition and to prolong their useful life.

The Appraisers Building is a Class-B office building on a .86-acre site in the central business district of San Francisco. The original structure was constructed in 1944, and is nineteen stories above-ground, which includes the penthouse, loft, two levels of mechanical space, and three tiered-roof levels. This building is adjacent to the U.S. Customs House.

The U.S. Customs House is on a .86-acre site located on the northern edge of the city's financial district, occupying one-half of the block bounded by Sansome, Jackson, Battery and Washington Streets. The Class B structure was constructed in 1911 and is composed of two interconnected structures.

Alternatives Under Consideration

The EA will consider one Action Alternative (the Proposed Action) and the No Action Alternative. The Action Alternative would consist of modernization work to repair, modify or replace certain building improvements and systems. The buildings would not be expanded in size and there would be no change in personnel staffing levels at each building. Construction is likely to impact parking access and traffic flow during construction.

Under the No Action Alternative, modernization enhancements to the existing buildings would not occur.

Scoping Process

Scoping will be accomplished through public notifications in the San Francisco Chronicle, social media announcements, and direct mail correspondence to appropriate federal, state, and local agencies; surrounding property owners; and private organizations and citizens who have previously expressed or are known to have an interest in the Project.

The primary purpose of the scoping process is for the public to assist GSA in determining the scope and content of the environmental analysis.

Dated: July 24, 2019.
Jared Bradley,
Director, Portfolio Management Division, Pacific Rim Region, Public Buildings Service.

[FR Doc. 2019-16133 Filed 7-29-19; 8:45 am]

BILLING CODE 6820-YF-P